DEPARTMENT OF ENERGY

Federal Energy Regulatory Commission

[Docket Nos. CP08-152-000; CP01-23-006; PF07-11-000]

North Baja Pipeline, LLC; Notice of Application

April 24, 2008.

Take notice that on April 15, 2008, North Baja Pipeline, LLC (North Baja), 1400 SW., Fifth Avenue, Suite 900, Portland, Oregon 97201, filed in the above dockets, an application, pursuant to sections 7 and 3 of the Natural Gas Act (NGA), for a certificate authorizing the construction and operation of the Yuma Lateral and an amendment to North Baja's existing Presidential Permit to allow the construction of additional facilities at the United States-Mexico border for the purposes of importing natural gas, including revaporized liquefied natural gas (LNG) from Mexico. North Baja's proposal is more fully described as set forth in the application that is on file with the Commission and open to public inspection. This filing may also be viewed on the Commission's Web site at http://www.ferc.gov using the “eLibrary” link. Enter the docket number, excluding the last three digits, in the docket number field to access the document. There is an “eSubscription” link on the Web site that enables subscribers to receive e-mail notification when a document is added to a subscribed docket(s). For assistance with any FERC Online service, please e-mail FERCOnlineSupport@ferc.gov, or call (866) 208-3676 (toll free). For TTY, call (202) 502-8659.

Specifically, North Baja seeks authorization to construct: (1) A new direct interconnection with the facilities of Gasoducto Bajanorte at the United States-Mexico border; (2) a new, 3.27 mile, 12-inch diameter pipeline extending from the international border a the Colorado River to the Yucca Power Plant in Yuma, Arizona; and (3) the Yuma #1 Delivery Meter Station. North Baja estimates that the proposed facilities will cost $8,533,914. North Baja states that the purpose of the facilities is to provide 81,250 Dth per day of firm natural gas transportation service to the Yucca Power Plant owned by Arizona Public Service Company. North Baja proposes new incremental rates under Rate Schedule LAT-1 for service on the Yuma Lateral.

Any questions regarding this application should be directed to Henry P. Morse, Jr., General Manager, North Baja Pipeline, LLC, 1400 SW., Fifth Avenue, Suite 900, Portland, Oregon 97201, at (503) 833-4108.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 14 copies of the protest or intervention to the Federal Energy Regulatory Commission, 888 First Street, NE., Washington, DC 20426.

On June 21, 2007, the Commission staff granted North Baja's request to utilize the Pre-Filing Process and assigned Docket No. PF07-11-000 to staff activities involving CIG's proposal. Now, as of the filing of North Baja's application on April 15, 2008, the Pre-Filing Process for this project has officially concluded. And while the PF Docket Number is now closed, all of the information contained in the Pre-Filing Process will become part of the certificate proceeding. From this time forward, CIG's proceeding will be conducted in Docket Nos. CP08-152-000 and CP01-23-006, as noted in the caption of this Notice. All future correspondence should refer to these CP docket numbers only

Comment Date: May 15, 2008.

Kimberly D. Bose,
Secretary.

[FR Doc. E8-9797 Filed 5-2-08; 8:45 am]

BILLING CODE 6717-01-P